DEPARTMENT OF TRANSPORTATION

Federal Motor Carrier Safety Administration

[Docket No. FMCSA-2006-26304]

Agency Information Collection Activities; Revision of Approved Information Collections: OMB Control Numbers 2126-0010 (Motor Carrier Safety Assistance Program) and 2126-0025 (Transportation of Household Goods; Consumer Protection)

AGENCY: Federal Motor Carrier Safety Administration (FMCSA), DOT.

ACTION: Notice and request for comments.

SUMMARY: The FMCSA invites public comment on its intent to request approval from the Office of Management and Budget (OMB) to revise two (2) information collections (ICs) entitled, “Motor Carrier Safety Assistance Program” (2126-0010) and “Transportation of Household Goods; Consumer Protection” (2126-0025). These revised ICs are necessary to ensure that motor carriers and the States comply with changes made by various provisions of the Safe Accountable, Flexible, Efficient Transportation Equity Act: A Legacy for Users (SAFETEA-LU), that will be implemented in a separate final rule. On November 20, 2006, the agency published a Federal Register notice with a 60-day comment period to solicit the public's views on three information collections. The agency received one comment, which contained no substantive remarks pertaining to any of the information collections, and consequently was not incorporated into our supporting statement. We are required to publish this notice in the Federal Register by the Paperwork Reduction Act of 1995 and implementing regulations.

DATES: Comments must be submitted on or before May 23, 2007.

ADDRESSES: You may submit comments to the Office of Information and Regulatory Affairs, Office of Management and Budget, 725 Seventeenth Street, NW., Washington, DC 20503, Attention: DOT/FMCSA Desk Officer.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Requests for further information, including copies of the proposed collection of information and supporting documentation can be obtained by contacting Mr. Frederic L. Wood, Office of Chief Counsel, Regulatory Affairs Division (MC-CCR), Federal Motor Carrier Safety Administration, Room 8201, 400 Seventh Street, SW., Washington, DC 20590; telephone (202) 366-0834. Office hours are from 9 a.m. to 5 p.m., Monday through Friday, except Federal holidays.

SUPPLEMENTARY INFORMATION: The information stated below reflects the proposed changes to various regulatory provisions impacted by SAFETEA-LU and the new total annual burden hours for each.

(1) Title: Motor Carrier Safety Assistance Program.

OMB Control No.: 2126-0010.

Form No.: Forms MCSAP-1, MCSAP-2, and MCSAP-2A.

Type of Review: Revision of a currently approved collection.

Respondents: State Grant Applicants.

Number of Respondents: 52 (per quarter).

Estimated Time per Response: 80 hours.

Expiration Date: November 30, 2007.

Frequency: Annually (grant application) and quarterly (reports).

Total Annual Burden: 11,232 hours.

(2) Title: Transportation of Household Goods; Consumer Protection.

OMB Control No.: 2126-0025.

Form No.: Form MCSA-2P.

Type of Review: Revision of a currently approved collection.

Respondents: Motor Carriers and Individual Shippers of Household Goods.

Number of Respondents: 5,400.

Estimated Time per Response: Varies from 30 minutes to distribute consumer publication to 150 minutes to conduct physical survey.

Expiration Date: August 31, 2008.

Frequency: On occasion.

Total Annual Burden: 4,552,737 hours.

Background

Summarized below is information for the two (2) information collection requests subject to this notice. The information collection requests explained below are based on changes required by the enactment of SAFETEA-LU, Pub. L. 109-59, 119 Stat. 1144 (Aug. 10, 2005). We also correct previously published information regarding a third information collection.

First, the Motor Carrier Safety Assistance Program (MCSAP) requires that the Secretary of Transportation (Secretary) review reports submitted by the States and conduct inspections to continuously evaluate a State's enforcement plan. Sections 401 through 404 of the Surface Transportation Assistance Act of 1982 (Pub. L. 97-424, Jan. 6, 1983) (STAA), as amended by 49 U.S.C. 31100 et seq., established a program of financial assistance to the States to implement programs to enforce Federal and compatible State rules, regulations, standards, and orders applicable to commercial motor vehicle (CMV) safety. SAFETEA-LU amended 49 U.S.C. 31102(b)(1) to modify the conditions a State must meet to qualify for grant funds through MCSAP and now requires the following conditions be addressed in the State's Commercial Vehicle Safety Plan: (1) Deploying technology as part of performance-based activities to enhance the efficiency and effectiveness of CMV safety programs; (2) disseminating information as part of the CMV and non-CMV licensing examination information on best practices for driving safely in the vicinity of non-commercial and commercial motor vehicles; (3) conducting comprehensive and highly visible traffic enforcement and CMV safety inspection programs in high-risk areas; (4) ensuring that inspections of certain passenger vehicles are conducted at a station or other facility where a motor carrier may make a planned stop; and (5) allowing the use of funds to conduct documented enforcement of State traffic laws. The overall impact of these financial assistance provisions decreases total burden hours of information collection 2126-0010 by an estimated 622 hours, chiefly as a result of non-CMV traffic enforcement activities.

Second, in the Motor Carrier Safety Improvement Act of 1999 (Pub. L. 106-159, 113 Stat. 1749, Dec. 9, 1999) (MCSIA), Congress authorized the Agency to regulate household goods carriers engaged in interstate operations for individual shippers. Title IV, Subtitle B of SAFETEA-LU amended various provisions of existing law regarding household goods transportation. Several of those provisions, specifically addressing: Definitions (section 4202); payment of rates (section 4203); carrier operations (section 4205); liability of carriers under receipts and bills of lading (section 4207); arbitration requirements (section 4208); and penalties for holding goods hostage (section 4210), result in changes that affect information collection activities. These provisions require corresponding changes to the ”Your Rights and Responsibilities When You Move” consumer pamphlet. Section 4205 also requires the motor carrier to provide to the shipper a copy of the publication ”Ready to Move?” (or its successor publication). These publications provide concise, valuable consumer protection information regarding the legal rights of individual shippers. The household goods transportation provisions of SAFETEA-LU increase total paperwork burdens of information collection 2126-0025 by an estimated 182,700 burden hours compared to the previously approved burden. The largest portion of this increase is generated by requirements in section 4205 regarding the estimate of the transportation charges and the physical survey of the household goods.

Third, the separate final rule will not affect the currently-approved information clearance OMB Control Number 2126-0011, entitled “Commercial Driver Licensing and Test Standards,” which was referenced in the previous Federal Register notice. After we published the 60-day notice, the OMB approved this information collection on December 21, 2006, at a revised total of 1,210,401 burden hours, with an expiration date of April 30, 2007. This change is independent of, and not caused in any way by, the provisions in the final rule. We anticipate no additional change in the burden hours for this information collection at this time. We seek public comment on this assumption.

Public Comments Invited: You are asked to comment on any aspect of the information collections referenced here, including: (1) Whether the proposed collection is necessary for the FMCSA's performance; (2) the accuracy of the estimated burden; (3) ways for the FMCSA to enhance the quality, usefulness, and clarity of the collected information; and (4) ways that the burden could be minimized without reducing the quality of the collected information.

Issued on: April 13, 2007.
D. Marlene Thomas,
Associate Administrator Administration.

[FR Doc. E7-7627 Filed 4-20-07; 8:45 am]

BILLING CODE 4910-EX-P